DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on February 24, 2026. See SUPPLEMENTARY INFORMATION for relevant dates.

FOR FURTHER INFORMATION CONTACT: OFAC: Associate Director for Global Targeting, 202-622-2420; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On February 24, 2026, OFAC determined that the property and interests in property subject to U.S. jurisdiction of the following persons are blocked under the relevant sanctions authorities listed below.

Individuals

1. KUCHEROV, Oleg Vyacheslavovich (a.k.a. “GABR”), Samara, Russia; DOB 03 Jun 1973; POB Togliatti, Russia; nationality Russia; Gender Male; Secondary sanctions risk: Ukraine-/Russia-Related Sanctions Regulations, 31 CFR 589.201 (individual) [CAATSA—RUSSIA] [CYBER4] (Linked To: ZELENYUK, Sergey Sergeyevich).

Designated pursuant to section 1(a)(iii)(C) of Executive Order 13694 of April 1, 2015, “Blocking the Property of Certain Persons Engaging in Significant Malicious Cyber-Enabled Activities,” 80 FR 18077, 3 CFR, 2015 Comp., p. 297, as amended by Executive Order 13757 of December 28, 2016, “Taking Additional Steps to Address the National Emergency With Respect to Significant Malicious Cyber-Enabled Activities,” 82 FR 1, 3 CFR, 2016 Comp., p. 659, and as further amended by Executive Order 14144 of January 16, 2025, “Strengthening and Promoting Innovation in the Nation's Cybersecurity,” 90 FR 6755, and Executive Order 14306 of June 6, 2025, “Sustaining Select Efforts To Strengthen the Nation's Cybersecurity and Amending Executive Order 13694 and Executive Order 14144,” 90 FR 24723 (E.O. 13694, as further amended), for having materially assisted, sponsored, or provided financial, material, or technological support for, or goods or services to or in support of, SERGEY SERGEYEVICH ZELENYUK, a person whose property and interests in property are blocked pursuant to E.O. 13694, as further amended.

2. MAMASHOYEV, Azizjon Makhmudovich (a.k.a. MAMASHOYEV, Azizjon Maxmudovich), 60 Amir Timur Avenue, Tashkent, Uzbekistan; DOB 20 Feb 1987; nationality Uzbekistan; Gender Male; Secondary sanctions risk: Ukraine-/Russia-Related Sanctions Regulations, 31 CFR 589.201; Passport FA2783585 (Uzbekistan) expires 16 May 2031; National ID No. AD3927969 (Uzbekistan) (individual) [CAATSA—RUSSIA] [CYBER4] (Linked To: ZELENYUK, Sergey Sergeyevich).

Designated pursuant to section 1(a)(iii)(C) of E.O. 13694, as further amended, for having materially assisted, sponsored, or provided financial, material, or technological support for, or goods or services to or in support of, SERGEY SERGEYEVICH ZELENYUK, a person whose property and interests in property are blocked pursuant to E.O. 13694, as further amended.

BILLING CODE 4810-AL-P

Entities

1. ADVANCE SECURITY SOLUTIONS (a.k.a. “ADVANCED SECURITY SOLUTIONS”), R-311-315, Jumeirah Living Marina Gate 3, P.O. Box 121828, Dubai, United Arab Emirates; Tashkent, Uzbekistan; website advance-sec.com; Secondary sanctions risk: Ukraine-/Russia-Related Sanctions Regulations, 31 CFR 589.201; Organization Established Date 2025; Organization Type: Computer programming activities [CAATSA—RUSSIA] [CYBER4] (Linked To: MAMASHOYEV, Azizjon Makhmudovich).

Designated pursuant to section 1(a)(iii)(D) of E.O. 13694, as further amended, for being owned or controlled by, or having acted or purported to act for or on behalf of, directly or indirectly, AZIZJON MAKHMUDOVICH MAMASHOYEV, a person whose property and interests in property are blocked pursuant to E.O. 13694, as further amended.

3. SPECIAL TECHNOLOGY SERVICES LLC FZ, Meydan Grandstand, 6th Floor, Meydan Road, Nad Al Sheba, Dubai, United Arab Emirates; Secondary sanctions risk: Ukraine-/Russia-Related Sanctions Regulations, 31 CFR 589.201; Organization Established Date 07 Dec 2024; Organization Type: Computer programming activities; PAIPA Section 2 Information: BLOCKING OF PROPERTY (entity). Sec.2(b)(1)(A)—All property and interests in property of this entity are blocked, and all transactions with this entity are prohibited, except for the importation of goods.; alt. PAIPA Section 2 Information: LOANS FROM UNITED STATES FINANCIAL INSTITUTIONS. Sec.2(b)(1)(D)—United States financial institutions are prohibited from making loans or providing credits to this entity totaling more than $10,000,000 in any 12-month period, subject to the exception set forth in PAIPA Section 2(b)(1)(D).; alt. PAIPA Section 2 Information: FOREIGN EXCHANGE. Sec.2(b)(1)(H)—Transactions in foreign exchange that are subject to the jurisdiction of the United States and in which this entity has any interest are prohibited.; alt. PAIPA Section 2 Information: BANKING TRANSACTIONS. Sec.2(b)(1)(I)—Any transfers of credit or payments between financial institutions or by, through, or to any financial institution, to the extent that such transfers or payments are subject to the jurisdiction of the United States and involve any interest of this entity, are prohibited.; alt. PAIPA Section 2 Information: BAN ON INVESTMENT IN EQUITY OR DEBT OF SANCTIONED PERSON. Sec.2(b)(1)(J)—Any United States person is prohibited from investing in or purchasing significant amounts of equity or debt instruments of this entity. [CAATSA—RUSSIA] [CYBER4] [PAIPA] (Linked To: ZELENYUK, Sergey Sergeyevich).

Designated pursuant to section 1(a)(iii)(D) of E.O. 13694, as further amended, for being owned or controlled by, or having acted or purported to act for or on behalf of, directly or indirectly, SERGEY SERGEYEVICH ZELENYUK, a person whose property and interests in property are blocked pursuant to E.O. 13694, as further amended.

Bradley T. Smith,
Director, Office of Foreign Assets Control.

[FR Doc. 2026-04217 Filed 3-3-26; 8:45 am]

BILLING CODE 4810-AL-C